DEPARTMENT OF ENERGY

Proposed Agency Information Collection

AGENCY: Office of the Under Secretary for Infrastructure, U.S. Department of Energy.

ACTION: Notice and request for comment.

SUMMARY: The Department of Energy (DOE) invites public comment on a proposed collection of information that DOE is developing for submission to the Office of Management and Budget (OMB) for clearance, pursuant to the Paperwork Reduction Act of 1995.

DATES: Comments regarding this proposed information collection request (ICR) must be received on or before May 19, 2023. If you anticipate any difficulty in submitting comments within that period, contact the person listed in the FOR FURTHER INFORMATION CONTACT section as soon as possible.

ADDRESSES: Written comments may be sent to Julius Goldberg-Lewis, 1000 Independence Ave. SW, Washington, DC 20585, (240) 364-4382, or by email at julius.goldberg-lewis@hq.doe.gov.

FOR FURTHER INFORMATION CONTACT: A copy of this information collection request, with applicable supporting documentation, may be obtained by contacting Julius Goldberg-Lewis, U.S. Department of Energy, 1000 Independence Ave. SW, Washington, DC 20585, (240) 364-4382, or by email at julius.goldberg-lewis@hq.doe.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This proposed information collection request contains:

(1) OMB No.: 1910-5197;

(2) Information Collection Request Title: Output and Outcome Metrics for Financial Assistance and Rebates;

(3) Type of Request: Extension of an ICR;

(4) Purpose: Given the historic level of investment represented by Infrastructure Investment and Jobs Act programs, it is incumbent on DOE to transparently track, report, and communicate the outcomes of DOE's financial assistance and rebate programs. Executive Order 14052 directs federal agencies to prioritize “investing public dollars efficiently and equitably, working to avoid waste, and focusing on measurable outcomes for the American people.” This guidance specifies the uniform collection, measurement, and reporting methodologies necessary for a set of key metrics that DOE can use to communicate the outcomes and outputs of funds awarded, ensuring consistency, transparency, and accountability to support Administration and program objectives. This Information Collection addresses a set of key cross-cutting metrics that will track across DOE programs to assess and communicate DOE's progress toward meeting key agency priorities, including creating quality jobs, supporting domestic manufacturing, increasing equity and justice, reducing greenhouse gas (GHG) emissions, and providing pathways to private sector uptake. The metrics will inform transparent and consistent reporting of the key metrics across DOE awards and will include project-level location data covering outcomes and outputs for specific communities, allowing DOE to better understand who is affected by DOE funded programs and how. This approach will enable DOE to report metrics at the agency, office, portfolio, and program levels and will provide data that can help evaluate the efficiency and equity of the programs, educate the design and implementation of future programs, and identify and address potential waste. DOE proposes to collect information through applications and supporting documents information necessary to determine that whether rebate applicants meet the specified statutory criteria to receive payments under the equipment rebate programs;

(5) Annual Estimated Number of Respondents: 59,625;

(6) Annual Estimated Number of Total Responses: 88,125;

(7) Annual Estimated Number of Burden Hours: 98,250;

(8) Annual Estimated Reporting and Recordkeeping Cost Burden: $6,286,035;

(9) Statutory Authority: Federal Grant and Cooperative Agreement Act, 31 U.S.C. 6301-6308; section 3506(c)(2)(A) of the Paperwork Reduction Act of 1995 (Pub. L. 104-13).

Signing Authority

This document of the Department of Energy was signed on March 14, 2023, by Kathleen Hogan, Principal Deputy Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 14, 2023.
Treena V. Garrett,
Federal Register Liaison Officer, U.S. Department of Energy.

[FR Doc. 2023-05529 Filed 3-17-23; 8:45 am]

BILLING CODE 6450-01-P